NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 13, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-04-02, 2 items, 2 temporary items). Electronic copies of records created using electronic mail and word processing that are associated with a registry containing personal demographic data on individuals participating in medical research. This schedule, which applies to records in all media, also increases to 75 years the retention period for the registry, which was previously approved for disposal.

2. Department of Commerce, National Oceanic and Atmospheric Administration (N1-370-04-4, 18 items, 18 temporary items). Records of the National Ocean Service, including such files as software created in-house (with accompanying manuals), application software, data and technical documentation for electronic models and expert systems, and data, system documentation, inputs, and outputs for tracking systems associated with operating plans, controlled correspondence, and memorandums of agreement.

3. Department of Health and Human Services, Food and Drug Administration (N1-88-03-5, 84 items, 83 temporary items). Records of the Center for Biologics Evaluation and Research relating to research, compliance, manufacturing, testing, approval, and inspection activities associated with regulating biological products. Included are such records as product license applications, production establishment license applications, applications to test prototype products on humans, inspection and investigation reports, adverse experience reports, new drug applications, general correspondence, advisory committee administrative files, export request files, and market withdrawal files. Also included are electronic copies of documents created using electronic mail and word processing. Proposed for permanent retention are recordkeeping copies of product efficacy review final reports. This schedule authorizes the agency to apply the proposed disposition instructions to any recordkeeping medium.

4. Department of Justice, Drug Enforcement Administration (N1-170-04-10, 3 items, 3 temporary items). Sound and video recordings accumulated in the course of investigations and intelligence operations.

5. Department of Justice, Bureau of Alcohol, Tobacco, Firearms and Explosives (N1-436-04-3, 6 items, 6 temporary items). Master files, inputs, outputs, and documentation associated with an electronic system used to track the training activities of all agency personnel. Also included are electronic copies of documents created using electronic mail and word processing.

6. Department of Transportation, Bureau of Transportation Statistics (N1-398-04-16, 5 items, 4 temporary items). Extra copies of all controlled and major correspondence signed by the agency's Director or other senior officials. Also included are electronic copies of records created using electronic mail and word processing. Proposed for permanent retention are recordkeeping copies and indexes of controlled and major correspondence signed by the agency's Director, Deputy Director, Associate Directors, and Attorney Advisor. This schedule authorizes the agency to apply the proposed disposition instructions to any recordkeeping medium.

7. Department of Transportation, Bureau of Transportation Statistics (N1-398-04-17, 4 items, 3 temporary items). Working files used to prepare reports to Congress and the President regarding agency objectives and accomplishments. Also included are electronic copies of records created using electronic mail and word processing. Recordkeeping copies of final reports are proposed for permanent retention. This schedule authorizes the agency to apply the proposed disposition instructions to any recordkeeping medium.

8. Department of Transportation, Bureau of Transportation Statistics (N1-398-04-18, 3 items, 3 temporary items). Records relating to the participation or sponsorship of agency staff in professional associations, societies, and related groups. Also included are electronic copies of records created using electronic mail and word processing. This schedule authorizes the agency to apply the proposed disposition instructions to any recordkeeping medium.

9. Department of Transportation, Bureau of Transportation Statistics (N1-398-04-38, 3 items, 3 temporary items). Information collection budget reports submitted to the Office of Management and Budget. Also included are electronic copies of records created using electronic mail and word processing. This schedule authorizes the agency to apply the proposed disposition instructions to any recordkeeping medium.

10. Department of the Treasury, Office of the Secretary (N1-56-04-3, 12 items, 6 temporary items). Administrative records, working papers, Web site content, and Web site management records accumulated by the Internal Revenue Service Oversight Board relating to the Treasury Department's oversight of IRS administration and operations. Proposed for permanent retention are recordkeeping copies of official correspondence, speeches and testimony, publications and reports, meeting minutes, and news releases. Also included are electronic copies of records created using electronic mail and word processing.

11. Department of the Treasury, Bureau of Engraving and Printing (N1-318-04-18, 21 items 18 temporary items). Record relating to postage stamp and special products printing and processing, including records created in connection with such activities as ordering, scheduling, production, tracking, receiving/shipping, corrective actions, service returns, discrepancy reporting, and planning. Also included are electronic copies of records created using electronic mail and word processing. Proposed for permanent retention are recordkeeping copies of postage stamps annual orders, postage stamp history files, and special security products files.

12. Department of the Treasury, Bureau of Engraving and Printing (N1-318-04-19, 9 items, 9 temporary items). Records relating to engraving and plate production, including such files as production control records, inventories, production statistics, tracking logs, and identification number assignment records. Also included are electronic copies of records created using electronic mail and word processing.

13. Department of the Treasury, Bureau of Engraving and Printing (N1-318-04-20, 10 items 8 temporary items). Records relating to the printing, processing, and production of currency. Included are such records as yearly currency orders, printing orders, manuals, reports, manufacturing support materials, and currency scheduling files. Also included are electronic copies of records created using electronic mail and word processing. Proposed for permanent retention are recordkeeping copies of official Federal Reserve Board records of currency schedules, requests and correspondence, and year-end currency reports.

Dated: October 20, 2004.
Michael J. Kurtz,
Assistant Archivist for Records Services—Washington, DC.

[FR Doc. 04-24021 Filed 10-26-04; 8:45 am]

BILLING CODE 7515-01-P